ENVIRONMENTAL PROTECTION AGENCY

40 CFR Part 52

[PA-4138a; FRL-7038-8 ]

Approval and Promulgation of Air Quality Implementation Plans; Pennsylvania; VOC and NOX RACT Determinations for Eleven Individual Sources in the Pittsburgh-Beaver Valley Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for eleven major sources of volatile organic compounds (VOC) and nitrogen oxides ( NOX). These sources are located in the Pittsburgh-Beaver Valley ozone nonattainment area (the Pittsburgh area). EPA is approving these revisions to establish RACT requirements in the SIP in accordance with the Clean Air Act (CAA).

DATES: This rule is effective on October 5, 2001 without further notice, unless EPA receives adverse written comment by September 20, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Pennsylvania Department of Environmental Protection, Bureau of Air Quality Control, P.O. Box 8468, 400 Market Street, Harrisburg, Pennsylvania 17105; and the Allegheny County Health Department, Bureau of Environmental Quality, Division of Air Quality, 301 39th Street, Pittsburgh, Pennsylvania 15201.

FOR FURTHER INFORMATION CONTACT: Catherine Magliocchetti (215) 814-2174, or Ellen Wentworth (215) 814-2034 at the EPA Region III address above or by e-mail at magliocchetti.catherine@epa.gov. or wentworth.ellen@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f)) applies throughout the OTR. The entire Commonwealth is located within the OTR. Therefore, RACT is applicable statewide in Pennsylvania.

State implementation plan revisions imposing reasonably available control technology (RACT) for three classes of VOC sources are required under section 182(b)(2). The categories are:

(1) All sources covered by a Control Technique Guideline (CTG) document issued between November 15, 1990 and the date of attainment;

(2) All sources covered by a CTG issued prior to November 15, 1990; and

(3) All major non-CTG sources. The regulations imposing RACT for these non-CTG major sources were to be submitted to EPA as SIP revisions by November 15, 1992 and compliance required by May of 1995.

The Pennsylvania SIP already includes approved RACT regulations for all sources and source categories covered by the CTGs. On February 4, 1994, PADEP submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by-case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrate that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/ NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA expects to publish the final rulemaking in the Federal Register in the near future. Federal approval of a case by case RACT determination for a major source of NOX in no way relieves that source from any applicable requirements found in 25 PA Code Chapters 121, 123 and 145.

On January 21, 1997, July 1, 1997, March 3, 1999, April 9, 1999, and July 5, 2001, PADEP submitted revisions to the Pennsylvania SIP which establish and impose RACT for several major sources of VOC and/or NOX. This rulemaking pertains to eleven of those sources. The RACT determinations for the other sources are, or have been, the subject of separate rulemakings. The Commonwealth's submittals consist of Operating Permits (OPs) issued by PADEP and Plan Approvals and Agreement Upon Consent Orders (COs) issued by the Allegheny County Health Department (ACHD). The PADEP submitted the COs to EPA as SIP revisions on behalf of the ACHD. These OPs and COs impose VOC and/or NOX RACT requirements for each source. These sources are all located in the Pittsburgh area.

II. Summary of the SIP Revisions

The table below identifies the sources and their respective OPs and COs which are the subject of this rulemaking. A summary of the VOC and NOX RACT determinations for each source follows the table.

Pennsylvania—VOC and NOX RACT Determinations for Individual Sources
Source | County | OP # or CO # | Source type | “Major source” pollutant
J&L Structural, Inc.—Aliquippa | Beaver | OP 04-000-467 | Mill Reheat furnace | NOX/VOC
J&L Specialty Steel, Inc.—Midland Facility | Beaver | OP 04-000-013 | Steelmaking & Finishing | NOX/VOC
LTV Steel Company, Inc. | Allegheny | CO 259 | Coke Production Facility | NOX/VOC
Universal Stainless & Alloy Products, Inc. | Allegheny | CO 241 | Steel Products Plant | NOX/VOC
U.S. Steel Clairton Works | Allegheny | CO 234 | Coke Production Facility | NOX/VOC
USX Corporation, US Steel Group, Edgar Thomson Works | Allegheny | CO 235 | Steel Production Facility | NOX/VOC
USX Corporation, US Steel Group, Irvin Works | Allegheny | CO 258 | Steel Production Facility | NOX/VOC
Washington Steel Corporation | Washington | OP 63-000-023 | Furnaces & Pickling Lines | NOX
Wheeling-Pittsburgh Steel Corporation | Washington | OP 63-000-066 | Combination Natural Gas/Oil Fired Furnace | NOX
Koppers | Westmoreland | OP 65-000-853 | Coke Works | NOX/VOC
Shenango, Inc. | Allegheny | CO 233 | Coke Production Facility | NOX/VOC

A. J & L Structural, Inc.—Aliquippa

J & L Structural, Inc. is a mill reheat furnace plant in Aliquippa Borough, Pennsylvania. The PADEP issued OP 04-000-467 to impose RACT for the reheat furnace at this source. Under this permit, J & L Structural, Inc.'s Aliquippa's facility was required to shut down the 14″ mill reheat furnace by May 31, 1997. The NOX emissions from this facility were limited to 331 tons per year (tpy) and records were required to clearly demonstrate compliance with this condition. For the purposes of emission credit generation pursuant to 25 PA Code section 127.207(1)(i), RACT for the 14” mill reheat furnace has been determined to be the installation of ultra low-NOX burners with a control efficiency of 49 percent.

B. J & L Specialty Steel, Inc.—Midland Facility

J & L Specialty Steel, Inc.'s Midland facility is a steelmaking and finishing process facility located in Midland Boro, Pennsylvania. J & L Specialty Steel, Inc.'s Midland facility is a major source of NOX and VOC. The PADEP issued OP 04-000-013 to impose RACT for the units at this source. Under this permit, J & L Specialty Steel, Inc.'s Midland facility is required to conduct annual tune-ups at the facility on all combustion units with a rated heat capacity between 20 MMBtu/hr and 50 MMBtu/hr. These tune-ups must be conducted in accordance with 25 PA Code section 192.93(b)(2). J & L Specialty Steel, Inc.'s Midland facility is subject to the record keeping requirements of 25 PA Code section 129.95. At each Z-mill at the Midland facility, VOC emissions are limited to 27.6 tpy. The EAF baghouse is limited to VOC emissions of 92 tpy. The Cold Anneal Pickle (CAP) line HNO3/HF scrubber is limited to 76 tpy of NOX. The Hot Anneal Pickle (HAP) line HNO3 scrubber is limited to 41 tpy of NOX. The EAF baghouse is limited to 1270 tpy of NOX. J & L Specialty Steel, Inc.'s Midland facility is required to perform stack testing on the CAP line HNO3/HF scrubber, the HAP line HNO3 scrubber, and the EAF baghouse, to determine the emission rate of NOX as NO2. J & L Specialty Steel, Inc.'s Midland facility is required to perform stack testing on each Z-mill and the EAF baghouse to determine the emission rates of VOC. All stack testing shall be performed in accordance with 25 PA Code Chapter 139, and the PADEP's Source Testing Manual. The source is required to submit pre-test protocols to PADEP, to notify PADEP that stack testing will take place (so that an observer may be present), and to provide PADEP with two copies of the stack test results. All annual limits must be met on a rolling monthly basis over every consecutive 12-month period.

C. LTV Steel Company, Inc.

LTV Steel Company, Inc., is a coke production facility located in Pittsburgh, Pennsylvania. LTV Steel Company, Inc., is a major NOX and VOC emitting facility. In this instance, RACT has been established and imposed by the ACHD in CO 259. The PADEP submitted this CO to EPA on behalf of the ACHD as a SIP revision. The ACHD issued CO 259 to impose RACT on subject units at the facility. Under this CO, LTV Steel Company, Inc., is required to maintain and operate the following units in accordance with good engineering and air pollution control practices: (1) Coke batteries P-1, P-2, P-3N, P-3S, and P-4; (2) Babcock and Wilson boilers 1 through 5 (Southside Boilers); (3) Riley boilers 1 through 3; (4) Keeler boilers 4 through 6; (5) Package boiler; and the (6) By-product plant. LTV Steel Company, Inc., is precluded from allowing NOX emissions from Boilers B & W 1, 2, 3, 4, and 5 to exceed 0.329 lbs/MMBtu, and 331 tpy. LTV Steel Company, Inc., is also precluded from operating the By-product plant unless the nitrogen gas blanketing system is being properly maintained and operated at all times while the plant process units blanketed by the system are emitting VOCs, with the exception of emergency or planned outages, repairs or maintenance. All VOC emissions processed by the blanketing system shall be incinerated by combustion in the facility's combustion units. LTV Steel Company, Inc., shall determine the compliance of Southside Boilers 1 through 5 by emission testing for NOX every two years. The emission testing shall be conducted according to EPA-approved methods and section 2108.02 of Article XXI of ACHD's regulations. LTV Steel Company, Inc. shall retain all records required by both section 2105.06 of Article XXI, and the CO for at least two years and they shall be made available to the ACHD upon request. LTV Steel Company, Inc. shall maintain all appropriate records to demonstrate compliance with the requirements of section 2105.06 of Article XXI and CO 259. Records shall include fuel type and usage for the units specified above. LTV Steel Company, Inc. is also subject to additional post-RACT requirements to reduce NOX.

D. Universal Stainless & Alloy Products, Inc.

Universal Stainless & Alloy Products, Inc., is a specialty steel products facility located in Bridgeville, Pennsylvania. Universal Stainless & Alloy Products, Inc., is a major NOX and VOC emitting facility. In this instance, RACT has been established and imposed by the ACHD in CO 241. The PADEP submitted this CO to EPA on behalf of the ACHD as a SIP revision. The ACHD issued CO 241 to impose RACT on subject equipment at the facility. Under this CO, Universal Stainless & Alloy Products, Inc. is required to maintain and operate the following equipment in accordance with good engineering practice and manufacturer's specifications: (a) the electric arc furnace; (b) the argon-oxygen decarburization vessel; (c) the ladle reheat furnace; (d) the vessel reheat furnace; (e) the ingot reheat furnace; (f) the teeming process; (g) the hot rolling process; (h) Annealing furnaces No. 3 through 11; (i) Reheat furnaces No. 3 through 20; and (j) the Space heaters. Universal Stainless & Alloy Products, Inc., shall retain all records required by both section 2105.06 of Article XXI and this order for at least two years, and they shall be made available to the PADEP upon request. Such records shall provide sufficient data and calculations to clearly demonstrate that all requirements of section 2105.06 of Article XXI and CO 241 are being met. Data and information required to determine compliance shall include, but not be limited to the production and operating records for the electric arc furnace, the AOD vessel, the teeming process, and the hot rolling process. Universal Stainless and Alloy Products, Inc., shall at all times maintain records of fuel type and fuel usage for the facility including certifications from fuel suppliers for all types of liquid fuel. For each shipment of distillate oils number 1 or 2, a certification that the fuel complies with ASTM D396-78 “Standard Specifications for Fuel Oils” is required. For residual oils, minimum record keeping includes a certification from the fuel supplier of the nitrogen content of the fuel, and identification of the sampling method and protocol.

E. U.S. Steel Clairton Works

U.S. Steel's Clairton Works is a coke production facility located in Clairton, Pennsylvania. U.S. Steel's Clairton Works facility is a major NOX and VOC emitting facility. In this instance, RACT has been established and imposed by the ACHD in CO 234. The PADEP submitted this CO to EPA on behalf of the ACHD as a SIP revision. The ACHD issued CO 234 to impose RACT on processing equipment at the facility. Under this CO, U.S. Steel's Clairton Works facility is required to maintain and operate the following equipment in accordance with good engineering and air pollution control practices:

(1) Coke Batteries No. 1, 2, 3, 7, 8, 9, 13, 14, 15, 19, 20 and Battery B

(2) Pushing Emission Control System for the batteries specified in (1), above

(3) Boilers No. 1, 2, 13, 14, R1, R2, T1, and T2

(4) By-Products Plant Clean Coke Oven Gas Blanketing System and all process units blanketed by this system

(5) Scot Plant Incinerator

(6) Wastewater Treatment Plant

The following units at this source are limited to NOX emissions as follows: Boilers No. 1, 2, 13, 14, R1, R2, T1, and T2 have a NOX limit of 0.54 lbs/MMBtu. Boiler No. 1 is subject to a 1,740 tpy NOX limit. Boiler No. 2 is subject to a 1,285 tpy NOX limit. Boilers No. 13 and 14 are subject to a NOX limit of 282 tpy. Boilers No. R1 and R2 are subject to a NOX limit of 525 tpy. Boilers No. T1 and T2 are subject to a NOX limit of 358 tpy. NOX emission testing shall be performed every two years on these units, and conducted according to EPA approved test methods and section 2108.02 of Article XXI. Boilers No. 1 and 2 shall have properly maintained and operated Continuous Monitoring Systems (CEM) or approved alternatives, meeting all the requirements of section 2108.03 of Article XXI at all times with the exception of emergency or planned outages, repairs or maintenance. The NOX emissions limit for Boilers No. 1 and 2 shall be determined by a thirty day rolling average and by a twelve month rolling average of CEM data for the above limits. U. S. Steel's Clairton Works facility shall not operate the By-products plant unless the clean coke oven gas blanketing system is being properly maintained and operated at all times while the plant process units blanketed by the system are emitting VOCs, with the exception of emergency or planned outages, repairs, or maintenance. All VOC emissions processed by the blanketing system shall be incinerated by combustion in the facility's coke batteries or boilers or by downstream consumers. U. S. Steel's Clairton Works facility shall retain all records required by both section 2105.06 of Article XXI and this order for at least two years and they shall be made available to the PADEP upon request. Such records shall provide sufficient data and calculations to clearly demonstrate that all requirements of the above references are being met.

F. USX Corporation-U.S .Steel-Edgar Thomson Works

USX Corporation's Edgar Thomson Works is a steel production facility located in Braddock, Pennsylvania. USX Corporation's Edgar Thomson Works is a major NOX and VOC emitting facility. In this instance, RACT has been established and imposed by the ACHD in CO 235. The PADEP submitted this CO to EPA on behalf of the ACHD as a SIP revision. The ACHD issued CO 235 to impose RACT on subject equipment at the facility. Under this CO, USX Corporation's Edgar Thomson facility is required to maintain and operate the following units in accordance with good engineering and air pollution control practices at all times:

(1) Boilers 1 through 3

(2) Blast Furnace Stoves and casthouses #1 and #3

(3) Dual Strand Continuous Caster

(4) Basic Oxygen Furnace vessels #1 and #2

(5) Blast Furnace Gas Flare

(6) Hot Metal Transfer and Desulfurization unit

(7) Blast Furnace Ramming mix operations

The following units at this source are limited to NOX emissions as follows: Boilers No. 1, 2, and 3 are limited to 0.55lbs/MMBtu, and 800 tpy of NOX. The facility shall not exceed an annual natural gas capacity factor of 78.4 percent at each of these boilers. These boilers must also have properly maintained and operated CEM, meeting all requirements of section 2108.03 of Article XXI. The NOX emission limits specified above shall be determined by a thirty day rolling average and by a twelve month rolling average of CEM data. USX Corporation's Edgar Thomson facility shall retain all records required by both section 2105.06 of Article XXI and this order for at least two years and they shall be made available to the PADEP upon request. Such records shall provide sufficient data and calculations to clearly demonstrate that all requirements of the above references are being met.

G. USX Corporation-U.S. Steel-Irvin Works

USX Corporation's Irvin Works is a steel processing facility located in West Mifflin, Pennsylvania. USX Corporation's Irvin Works facility is a major NOX and VOC emitting facility. In this instance, RACT has been established and imposed by the ACHD in CO 258. The PADEP submitted this CO to EPA on behalf of the ACHD as a SIP revision. The ACHD issued CO 258 to impose RACT on subject equipment at the facility. Under this CO, U.S. Steel's Irvin Works facility is required to maintain and operate the following units in accordance with good combustion and air pollution control practices at all times, with the exception of emergency or planned outages, repairs or maintenance:

(1) Boilers No. 1, 2, 3, and 4

(2) 80″ Hot Strip Mill Reheat Furnaces 1 through 5

(3) No. 1 Galvanizing Line Furnace

(4) No. 1 Galvanneal Furnace 6

(5) No. 2 Galvalume Furnace

(6) Terne Line Pot Heater

(7) Open Coil Annealing Furnace

(8) No. 2 Continuous Annealing Furnace

(9) HPH Box Annealing Furnace

(10) 80″ Hot Strip Mill Rolling Stands

(11) Five Stand Cold Rolling Mill

USX Corporation's Irvin Works facility is required to conduct an annual adjustment at the Irvin Works on the combustion processes of the following equipment: 80″ Hot Strip Mill Reheat Furnaces 1 through 5; Boilers No. 1, 2, 3, and 4; and No. 2 Continuous Annealing Furnace.

Such annual adjustment shall include: (1) Inspection, adjustment, cleaning, or necessary replacement of fuel-burning equipment, including the burners and moving parts necessary for proper operation as specified by the manufacturer; (2) Inspection of the flame pattern or characteristics and adjustments necessary to minimize total emissions of NOX; and (3) Inspection of the air-to-fuel ratio control system and adjustments necessary to ensure proper calibration and operation as specified by the manufacturer. USX Corporation's Irvin Works facility shall maintain the following records for the subject equipment: (1) The date of the annual tune-up; (2) The name of the service company and/or individuals performing the annual tune-up; (3) The operating rate or load after the annual tune-up; (4) The NOX emission rate after the annual tune-up. USX Corporation's Irvin Works facility shall operate the No. 3 Five Stand Cold Rolling Mill and the 80″ Hot Strip Mill Rolling Stand with lubricating oil, which is an oil-water emulsion and does not exceed a maximum VOC content by weight, of 2 percent and 4 percent, respectively. USX Corporation's Irvin Works facility shall retain all records required by both section 2105.06 of Article XXI and this order for at least two years and they shall be made available to the ACHD upon request. Such records shall provide sufficient data and calculations to clearly demonstrate that all requirements of the above references are being met.

H. Washington Steel Corporation

Washington Steel Corporation is a facility located in Washington City, Pennsylvania. Washington Steel Corporation's Washington plant is a major NOX emitting facility. The PADEP issued OP 63-000-023 to impose RACT for the four preheat and four equalizing furnaces in accordance with the manufacturer's specifications, in accordance with 25 PA Code section 129.93. Further, all sources and air cleaning devices at the facility shall be operated and maintained in accordance with good air pollution control practices. Washington Steel is precluded from exceeding 217 tpy of NOX at this facility. Emission reductions of the targeted contaminants below the levels specified in the source's permit, which were achieved by optimizing the effectiveness of equipment are not surplus reductions and shall not be used to generate emission reduction credits. In order for the emission reductions to be credible, the emission reductions must satisfy the requirements of 25 PA Code section 127, Subchapter E.

I. Wheeling-Pittsburgh Steel Corporation

Wheeling-Pittsburgh Steel Corporation is a facility located in Allenport Borough, Pennsylvania. Wheeling-Pittsburgh Steel Corporation's Allenport plant is a major NOX emitting facility. The PADEP issued OP 63-000-066 to impose RACT on the operation of two combination natural gas/oil fired boilers rated at 60.5 MMBtu/hr (retrofitted with low-NOX Burners/Flue Gas Recirculating) and the application of presumptive RACT for the 104 ancillary sources at this plant. Wheeling-Pittsburgh Steel Corporation's Allenport plant is required to maintain records in accordance with the requirements of 25 PA Code section 129.95. At a minimum, the following records shall be kept at the facility: monthly diesel consumption, monthly natural gas consumption, and material throughput. These records shall be maintained on file for not less than two years, and shall be made available to PADEP upon request. Wheeling-Pittsburgh Steel Corporation shall limit NOX emissions from each boiler at its Allenport plant to 2.0 lbs/hr, and 8.7 tpy when natural gas is used as the fuel. The NOX limit from each boiler shall be limited to 6.7 lbs/hr, and 29.4 tpy when diesel is used as the fuel. For one of the two boilers, if operated over 750 hours annually (combined), a minimum of one stack test in accordance with 25 PA Chapter 139 and the PADEP Source Testing Manual shall be performed at a maximum normal operating condition, to verify the emission rate for NOX. One of the two boilers, if operated over 750 hours annually (combined) shall also be stack tested annually at the normal operating condition and at the fuel condition used for the majority of the time during the past twelve months (either natural gas or diesel fuel) to verify the emission rate for NOX, either through and EPA method stack test, or through the use of portable monitors. Because the two boilers are identical, testing requirements for the stand-by boiler (at the time of testing) shall be waived. For those tests utilizing portable analyzers, the source shall submit a complete operating procedure, including calibration, QA/QC, and emission calculation methods to the PADEP. The accuracy of the portable analyzer shall be verified by operation and recording of readings during an EPA method stack test. This information shall be retained by the source at the test location and provided annually with the emission statement and at other times as requested by the PADEP. Wheeling-Pittsburgh Steel Corporation's Allenport plant is required to submit pretest protocols 60 days prior to testing, to notify the PADEP at least two weeks prior to stack testing (so that an observer may be present), and to submit a stack test report to PADEP within 60 days of testing.

J. Koppers

Koppers is a coke plant facility located in Monessen, Pennsylvania. Koppers is a major NOX and VOC emitting facility. The PADEP issued OP 65-000-853 to impose RACT on the sources at Koppers' Monessen Coke Works. Koppers' Monessen plant is required to operate and maintain all sources and air cleaning devices in accordance with good air pollution control practices, in accordance with 25 PA Code section 127.441. In addition, all sources and air cleaning devices must be operated and maintained in accordance with the manufacturer's specifications, guidelines and procedures, pursuant to 25 PA Code 127.441. In addition, NOX limits are imposed at the sources at Koppers' Monessen Coke Works as follows with annual limits set based upon any consecutive twelve month period:

(1) Battery 1B of the Coke Battery Underfire unit is limited to 60.7 lbs/hr, and 286 tpy

(2) Battery 2 of the Coke Battery Underfire unit is limited to 55.4 lbs/hr, and 246 tpy

(3) The Flare unit is limited to 31.7 tpy

(4) The Coke Pushing unit is limited to 7.8 lbs/hr, and 4.8 tpy

(5) The Coke Quenching unit is limited to 0.0 tpy

(6) The Coal Charging unit is limited to 0.7 tpy

(7) The Boilers are limited to 112.1 tpy

VOC limits are imposed at the sources at Koppers' Monessen Coke Works as follows with annual limits set based upon any consecutive twelve month period:

(1) Battery 1B of the Coke Battery Underfire unit is limited to 0.3 lbs/hr, and 1.0 tpy

(2) Battery 2 of the Coke Battery Underfire unit is limited to 0.5 lbs/hr, and 1.9 tpy

(3) The Flare unit is limited to 27.6 tpy

(4) The Coke Pushing unit is limited to 1.1 lbs/hr, and 0.6 tpy

(5) The Coke Quenching unit is limited to 5.4 tpy

(6) The Coal Charging unit is limited to 36.2 tpy

(7) The Boilers are limited to 2.7 tpy

(8) Miscellaneous Sources are limited to 0.5 tpy

(9) Fugitives are limited to 8.14 typ

(10) Coke By-Products Plant is limited to 35.2 tpy

Koppers' Monessen Coke plant is required to verify compliance with the above limits for the coke battery underfire and coke pushing emissions through annual stack testing. Pursuant to 25 PA Code 139.2, all stack testing shall be performed in accordance with 25 PA Code Chapter 139 regulations, and the PADEP Source Testing Manual. Koppers' Monessen Coke plant is required to submit a pre-test protocol to PADEP at least 60 days in advance of testing, to notify PADEP at least two weeks prior to the date of the testing (so that an observer may be present), and to submit two copies of the stack test results to PADEP within 60 days of the testing. Emission reductions of the targeted contaminants below the levels specified in the source's permit, which were achieved by optimizing the effectiveness of equipment, are not surplus reductions and shall not be used to generate emission reduction credits. In order for the emission reductions to be credible, the emission reductions must satisfy the requirements of 25 PA Code Section 127, Subchapter E. Koppers' Monessen Coke plant is required to keep records to demonstrate compliance with the limits specified above, in accordance with 25 PA Code section 129.95. The records shall provide sufficient data and calculations to clearly demonstrate compliance with the requirements specified above. Data and information required to determine compliance shall be recorded and maintained in a time frame consistent with averaging periods to verify compliance. These records shall be retained for at least two years, and made available to PADEP upon request.

K. Shenango, Inc.

Shenango Inc., is a coke production facility located in Neville Township, Pennsylvania. Shenango, Inc., is a major NOX and VOC emitting facility. In this instance, RACT has been established and imposed by the ACHD in CO 233. The PADEP submitted this CO to EPA on behalf of the ACHD as a SIP revision. The ACHD issued CO 233 to impose RACT on subject units at the Neville Township facility. Shenango is required to operate and maintain the following units in accordance with good engineering and air pollution control practices:

(1) Boilers No. 7, 8, 9, and 10

(2) Coke Battery S-1, PEC Baghouse and Quench Tower

(3) Tar Truck Loading and Light Oil Truck Loading

(4) Wash and Spent Oil Storage Tanks

(5) Heavy Oil Separator

(6) Light Oil Process and Coke Oven Gas Piping Systems

(7) Nitrogen Gas Blanketing System on the By-Product Plant.

Shenango's Neville Township facility is required to properly operate and maintain the existing nitrogen gas blanketing system treating emissions from the following equipment, while the subject equipment is emitting VOC's: (1) Tar Decanter Tanks A & B; (2) Tar Dewatering Tanks A & B; (3) Tar Storage Tanks A & B; (4) Flushing Liquor Recirculating Tanks A & B; (5) Flushing Liquor Overflow Tanks A & B; (6) Wash Oil Recirculating Hot Decanter, Cold Oil Decanter, Purifier and the Hot and Cold Muck Tanks; and (7) Light Oil Process Separator, Light Oil Process Interceptor Sump and Light Oil Process Tanks A & B. The NOX emissions from Boilers No. 7, 8, 9, and 10 shall be limited as follows: Boilers No. 7 and 8 have NOX emission limits of 0.18 lbs/MMBtu, and 92 tpy. Boilers No. 9 and 10 have NOX emission limits of 0.18 lbs/MMBtu, and 281 tpy and 373 tpy, respectively. Shenango shall test for compliance with the above limits every two years, using EPA approved test methods and section 2108.2 of Article XXI. The natural gas capacity factor for Boilers No. 7 and 8 is 52 percent. The natural gas capacity factor for Boiler No. 9 is 44.5 percent. The natural gas capacity factor for Boiler No. 10 is 17.9 percent. Shenango's Neville Township facility shall not exceed a 30 percent annual capacity factor, based on annual heat input for a calendar year, for Boilers No. 9 and 10. Shenango, Inc. shall maintain all appropriate records to demonstrate compliance with the requirements of 2105.06 of Article XXI and the CO, for at least two years, and they shall be made available to PADEP upon request. Such records shall provide sufficient data to clearly demonstrate that all such requirements are met, as described above. Shenango's Neville Township facility is also subject to additional post-RACT requirements to reduce NOX.

III. EPA's Evaluation

EPA is approving these RACT SIP submittals because the ACHD and PADEP established and imposed these RACT requirements in accordance with the criteria set forth in the SIP-approved RACT regulations applicable to these sources. The ACHD and PADEP have also imposed record-keeping, monitoring, and testing requirements on these sufficient to determine compliance with the applicable RACT determinations.

IV. Final Action

EPA is approving the revisions to the Pennsylvania SIP submitted by PADEP to establish and require VOC and NOX RACT for eleven major sources located in the Pittsburgh area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 5, 2001 without further notice unless EPA receives adverse comment by September 20, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section, or paragraph for that source or subset of sources will be withdrawn. If that provision may be severed from the remainder of the rule, EPA may adopt as final those provisions of the rule that are not the subject of an adverse comment.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for eleven named sources.

C. Petitions for Judicial Review

Under section 307(b)(1) of the Clean Air Act, petitions for judicial review of this action must be filed in the United States Court of Appeals for the appropriate circuit by October 22, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and NOX from eleven individual steel/coke manufacturing sources in Pennsylvania may not be challenged later in proceedings to enforce its requirements. (See section 307(b)(2).)

List of Subjects in 40 CFR Part 52

Environmental protection, Air pollution control, Hydrocarbons, Incorporation by reference, Nitrogen Oxides, Ozone, Reporting and record keeping requirements.

Dated: August 10, 2001.
Judith Katz,
Acting Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(172) to read as follows:

§ 52.2020 Identification of plan.

* * * * *

(c) * * *

(172) Revisions to the Pennsylvania Regulations, Chapter 129 pertaining to VOC and NOX RACT for 11 iron and steel sources located in the Pittsburgh-Beaver Valley area , submitted by the Pennsylvania Department of Environmental Protection on January 21, 1997, July 1, 1997, March 3, 1999, April 9, 1999, and July 5, 2001.

(i) Incorporation by reference.

(A) Letters submitted by the Pennsylvania Department of Environmental Protection transmitting source-specific VOC and/or NOX RACT determinations, on the following dates: January 21, 1997, July 1, 1997, March 3, 1999, April 9, 1999, and July 5, 2001.

(B) The following companies' Operating Permits (OP) or Consent Orders (CO):

(1) J & L Structural, Inc.-Aliquippa, OP 04-000-467, effective June 23, 1995, except for the Permit Term.

(2) Universal Stainless & Alloy Products, Inc., CO 241, effective December 19, 1996, except for condition 2.5.

(3) Shenango, Inc., CO 233, effective December 30, 1996, except for conditions 1.7, 2.6, and 2.7.

(4) LTV Steel Company, Inc., CO 259, effective December 30, 1996, except for condition 2.5.

(5) U.S. Steel Clairton Works, CO 234, effective December 30, 1996, except for condition 2.5.

(6) USX Corporation, Edgar Thomson Works, CO 235, effective December 30, 1996, except for condition 2.5.

(7) USX Corporation, Irvin Works, CO 258, effective December 30, 1996, except for condition 2.5.

(8) Wheeling-Pittsburgh Steel Corporation, OP 63-000-066, effective February 8, 1999, except for the Permit Term.

(9) Koppers, OP 65-000-853, effective March 20, 1998, except for the Permit Term.

(10) J & L Specialty Steel, Inc., Midland Facility, OP 04-000-013, effective March 23, 2001, except for the Permit Term.

(11) Washington Steel Corporation, OP 63-000-023, effective September 12, 1996, except for the Permit Term.

(ii) Additional Materials—Other materials submitted by the Commonwealth of Pennsylvania in support of and pertaining to the RACT determinations for the sources listed in paragraph (c)(172)(i)(B), of this section.

[FR Doc. 01-21026 Filed 8-20-01; 8:45 am]

BILLING CODE 6560-50-P